TENNESSEE VALLEY AUTHORITY

Meeting of the Regional Energy Resource Council

AGENCY: Tennessee Valley Authority (TVA).

ACTION: Notice of meeting.

SUMMARY: The TVA Regional Energy Resource Council (RERC) will hold a meeting on October 3 and 4, 2022, regarding regional energy related issues in the Tennessee Valley.

DATES: The meeting will be held in Chattanooga, Tennessee, at TVA's Missionary Ridge Building on Monday, October 3, 2022, from 8 a.m. to 3:15 p.m. ET and Tuesday, October 4, 2022, from 8:00 a.m. to 11:30 a.m. ET. RERC members are invited to attend the meeting in person. The public is invited to view the meeting virtually or attend in person. Health and safety protocols may be required for those who attend in-person as TVA is following CDC guidance on masking and social distancing. A 1-hour public listening session for the public to present comments virtually or in person will be held October 3, 2022, at 2 p.m. ET. A link and instructions to view the meeting will be posted one week prior on TVA's RERC website at www.tva.gov/rerc.

ADDRESSES: The meeting will be held at TVA's Missionary Ridge Auditorium at 1101 Market St., Chattanooga, TN 37402. The meeting will also be available virtually to the public. Instructions to view the meeting will be posted at www.tva.com/rerc prior to the meeting. Due to COVID 19 conditions, anyone wishing to attend in person must preregister by 5 p.m. ET Thursday, September 29, 2022, by emailing bhaliti@tva.gov. Persons who wish to speak during the public listening session must pre-register by 5 p.m. ET Thursday, September 29, 2022, by emailing bhaliti@tva.gov and specifying whether they wish to make comments virtually or in-person. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. app.2.

The meeting agenda includes the following:

Day 1—October 3

1. Welcome and Introductions

2. RERC and TVA Meeting Update

3. Update on TVA's Valley Vision 2035

4. Update on TVA's System Operations Center

5. Public Listening Session

Day 2—October 4

6. Welcome and Review of Day 1

7. Update from TVA's Nuclear Department

The RERC will hear views of citizens by providing a 1-hour public comment session starting October 3 at 2 p.m. ET. Persons wishing to speak in person or virtually must register by sending an email at bhaliti@tva.gov or by calling 931-349-1894 by 5 p.m. ET, on Thursday, September 29, 2022, and will be called on during the public listening session for up to five minutes to share their views. Written comments are also invited and may be emailed to bhaliti@tva.gov or mailed to the Regional Energy Resource Council, Tennessee Valley Authority, 400 West Summit Hill Drive, WT 9D, Knoxville Tennessee 37902.

Dated: September 7, 2022.
Melanie Farrell,
Vice President, External Stakeholders and Regulatory Oversight, Tennessee Valley Authority.

[FR Doc. 2022-19889 Filed 9-14-22; 8:45 am]

BILLING CODE 8120-08-P